FEDERAL COMMUNICATIONS COMMISSION

47 CFR Part 73

[DA 00-1693; MM Docket No. 99-293; RM-9720, RM-9721]

Radio Broadcasting Services; Canton and Saranac Lake, NY

AGENCY: Federal Communications Commission.

ACTION: Final rule.

SUMMARY: The Commission, at the request of Radio Vermont Classics, LLC, licensee of Station WCVT, Channel 269A, Stowe, VT, substitutes Channel 227A for unoccupied and unapplied-for Channel 269A at Saranac Lake, NY, so that Station WCVT can increase its power to 6 kW. At the request of Radio Power, Inc., licensee of Station WRCD, Canton, NY, this action also substitutes Channel 268C2 for Channel 268A at Canton, NY, and modifies the license of Station WRCD to specify operation on the higher powered channel. Channel 227A can be allotted to Saranac Lake in compliance with the Commission's minimum distance separation requirements, with respect to all domestic allotments, without the imposition of a site restriction, at coordinates 44-19-48 NL; 74-08-00 WL. This allotment will be short-spaced to Station CBM-FM, Channel 228C1, Montreal, Quebec. Channel 268C2 can be allotted to Canton in compliance with the Commission's minimum distance separation requirements, with respect to domestic allotments, with a site restriction of 31.8 kilometers (19.8 miles) east, at coordinates 44-35-66 NL; 74-46-24 WL. See SUPPLEMENTARY INFORMATION.

DATES: Effective September 11, 2000.

ADDRESSES: Federal Communication Commission, Washington, D.C. 20554.

FOR FURTHER INFORMATION CONTACT: Leslie K. Shapiro, Mass Media Bureau, (202) 418-2180.

SUPPLEMENTARY INFORMATION: This is a synopsis of the Commission's Report and Order, MM Docket No. 99-293, adopted July 19, 2000, and released July 28, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

This allotment will be short-spaced to Stations CBOF, Channel 271A, Brockville, Ontario, and vacant Channel 270A at Cornwall, Ontario, Canada. Therefore, Canadian concurrence in these allotments, as specially negotiated, short-spaced allotments, has been requested but has not yet been received. However, rather than delay any further the opportunity to file applications for the vacant channel at Saranac Lake, as well as applications to implement the channel change for Station WRCD at Canton, New York, and increase the Class A facilities of Station WCVT, Stowe, Vermont, we will substitute Channel 227A for Channel 269A at Saranac Lake, and substitute Channel 268C2 for Channel 268A at Canton. If a construction permit is granted prior to the receipt of formal concurrence in the allotments by the Canadian Government, the construction permit will include the following condition: “Operation with the facilities specified herein is subject to modification, suspension, or termination without the right to hearing, if found by the Commission to be necessary in order to conform to the Canada-United States FM Broadcast Agreement or if objected to by Industry Canada.” See 64 FR 54269, October 6, 1999.

A filing window for Channel 227A at Saranac Lake, NY, will not be opened at this time. Instead, the issue of opening a filing window for this channel will be addressed by the Commission in a subsequent order.

List of Subjects in 47 CFR part 73

Radio broadcasting.

Part 73 of title 47 of the Code of Federal Regulations is amended as follows:

PART 73—[AMENDED]

1. The authority citation for part 73 continues to read as follows:

Authority: 47 U.S.C. 154, 303, 334, and 336.

§ 73.202 [Amended]

2. Section 73.202(b), the Table of FM Allotments under New York, is amended by removing Channel 268A and adding Channel 268C2 at Canton and removing Channel 269A and adding Channel 227A at Saranac Lake.

Federal Communications Commission.
John A. Karousos,
Chief, Allocations Branch, Policy and Rules Division, Mass Media Bureau.

[FR Doc. 00-21003 Filed 8-17-00; 8:45 am]

BILLING CODE 6712-01-P